DEPARTMENT OF TRANSPORTATION

Federal Aviation Administration

Notice of Intent To Rule on Application 03-07-C-00-TYS To Impose and Use the Revenue From a Passenger Facility Charge (PFC) at McGhee-Tyson Airport, Knoxville, TN

AGENCY: Federal Aviation Administration (FAA), DOT.

ACTION: Notice of Intent to Rule on Application.

SUMMARY: The FAA proposes to rule and invites public comment on the application to impose and use the revenue from a PFC at McGhee-Tyson Airport under the provisions of the 49 U.S.C. 40117 and part 158 of the Federal Aviation Regulations (14 CFR part 158).

DATES: Comments must be received on or before August 7, 2003.

ADDRESSES: Comments on this application may be mailed or delivered in triplicate to the FAA at the following address: Memphis Airport District Office, 3385 Airways Boulevard, Suite 302, Memphis, TN 38116-3841.

In addition, one copy of any comments submitted to the FAA must be mailed or delivered to Mr. William Marrison, President of the Metropolitan Knoxville Airport Authority at the following address: McGhee-Tyson Airport, P.O. Box 15600, Knoxville, Tennessee 37901.

Air carriers and foreign air carriers may submit copies of written comments previously provided to the Metropolitan Knoxville Airport Authority under section 158.23 of part 158.

FOR FURTHER INFORMATION CONTACT: Mr. Cager Swauncy, Program Manager, Memphis Airports District Office, 3385 Airways Boulevard, Suite 302, Memphis, Tennessee 38116-3841. The application may be reviewed in person at this same location.

SUPPLEMENTARY INFORMATION: The FAA proposes to rule and invites public comment on the application to impose and use the revenue from a PFC at McGhee-Tyson Airport under the provisions of the 49 U.S.C. 40117 and Part 158 of the Federal Aviation Regulations (14 CFR part 158).

On June 26, 2003, the FAA determined that the application to impose and use the revenue from a PFC submitted by Metropolitan Knoxville Airport Authority was substantially complete within the requirements of section 158.25 of part 158. The FAA will approve or disapprove the application, in whole or in part, no later than September 24, 2003.

The following is a brief overview of the application.

Proposed charge effective date: July 1, 2022

Proposed charge expiration date: September 1, 2023

Level of the proposed PFC: $4.50

Total estimated PFC revenue: $4,691,627

Brief description of proposed project(s): Terminal Improvements Program and PFC Administration and Development

Class or classes of air carriers which the public agency has requested not be required to collect PFCs: Nonscheduled, whole-plane-charter operations by Air Taxi/Commercial operators filing FAA Form 1800-31

Any person may inspect the application in person at the FAA office listed above under FOR FURTHER INFORMATION CONTACT and at the FAA Airports District office located at: 3385 Airways Boulevard, Suite 302, Memphis, Tennessee.

In addition, any person may, upon request, inspect the application, notice and other documents germane to the application in person at the Metropolitan Knoxville Airport Authority.

Issued in Memphis, Tennessee on June 26, 2003.
LaVerne F. Reid,
Manager, Memphis Airports District Office.

[FR Doc. 03-17114 Filed 7-7-03; 8:45 am]

BILLING CODE 4910-13-M